DEPARTMENT OF TRANSPORTATION

Federal Aviation Administration

14 CFR Parts 119, 121, 129, 135, and 183

[Dkt. No. FAA-1999-5401; Amdt. Nos. 119-6, 121-284, 129-34, 135-81, and 183-11]

RIN 2120-AE42

Aging Airplane Safety

AGENCY: Federal Aviation Administration (FAA), DOT.

ACTION: Interim final rule; extension of comment period.

SUMMARY: This action extends the comment period for the interim final rule, Aging Airplane Safety, issued on December 6, 2002. In that final rule, the FAA requires airplanes operated under Title 14, Code of Federal Regulations (14 CFR) part 121, U.S.-registered multiengine airplanes operated under 14 CFR part 129, and multiengine airplanes used in scheduled operations under 14 CFR part 135 to undergo inspections and records reviews by the Administrator or a designated representative. This is to occur after the airplane's 14th year in service and at named intervals thereafter.

This extension results from a joint request made by the Air Transport Association (ATA) and the Regional Airline Association (RAA).

DATES: This interim final rule is effective December 8, 2003. The FAA must receive comments by May 5, 2003.

ADDRESSES: Address your comments to the Docket Management System, U.S. Department of Transportation, Room Plaza 401, 400 Seventh Street, SW., Washington, DC 20590-0001. You must identify the docket number FAA-1999-5401 at the beginning of your comments, and you should send two copies of your comments. If you wish to receive confirmation that FAA received your comments, include a self-addressed, stamped postcard.

You may also send comments and review public dockets through the Internet at http://dms.dot.gov. The public docket containing comments to this interim final rule may be viewed in person in the Dockets Office between 9 a.m. and 5 p.m., Monday through Friday, except Federal holidays. The Dockets Office is located on the plaza level of the Nassif Building at the Department of Transportation.

Do not send comments you consider to be of a sensitive nature to the docket management system. Instead, send those comments to the FAA, Office of Rulemaking, ARM-1, 800 Independence Avenue, SW., Washington, DC 20591.

FOR FURTHER INFORMATION CONTACT: Frederick Sobeck, Airplane Maintenance Division, AFS-304, Flight Standards Service, Federal Aviation Administration, 800 Independence Avenue SW., Washington, DC 20591; telephone (202) 267-7355; facsimile (202) 267-5115.

SUPPLEMENTARY INFORMATION:

Comments Invited

The FAA invites anyone with an interest to take part in this rulemaking by filing written comments, data, or views. The most helpful comments reference a specific portion of the rule, explain the reason for any recommended change, and include supporting data. We ask that you send us two copies of written comments.

We will file all comments received in the docket, including a report summarizing each substantive public contact with FAA personnel concerning this rulemaking. The docket is available for public inspection before and after the comment closing date. If you wish to review the docket in person, go to the address in the ADDRESSES section of this preamble between 9 a.m. and 5 p.m., Monday through Friday, except Federal holidays.

Before acting on this rulemaking, we will consider all comments we receive by the closing date for comments. We will consider comments filed late if it is possible to do so without incurring expense or delay. We may change this interim final rule because of the comments we receive.

If you want the FAA to acknowledge receipt of your comments on this interim final rule, include with your comments a preaddressed, stamped postcard on which the docket number appears. We will stamp the date on the postcard and mail it to you.

Background

On December 6, 2002, the FAA issued Docket No. FAA-1999-5401, Aging Airplane Safety (67 FR 72726, December 6, 2002). Comments to that document were to be received by February 4, 2003.

By letter dated January 9, 2003, ATA and RAA asked the FAA to extend the comment period for this docket an extra three months. In their joint petition, ATA and RAA state that industry needs more time to address the undefined, complex, and far-reaching maintenance and inspection issues.

ATA and RAA also sought a one-year extension of the rule's effective and related compliance dates. To justify this extension, the petitioners cite the time needed by the FAA to review and act upon comments from industry. While the FAA strives to work with industry to ensure this rule is effectively implemented, we do not believe more time is needed. In addition, the compliance dates within this rule offer industry adequate time to prepare and carry out all necessary actions. As a result, the effective and compliance dates for this rule will remain unchanged.

Extension of Comment Period

In accordance with § 11.47(c) of Title 14, Code of Federal Regulations, the FAA has reviewed the petitions made by ATA and RAA for extension of the comment period to Docket No. FAA-1999-5401. The FAA finds that extension of the comment period is consistent with the public interest, and that good cause exists for taking this action. These petitioners have a substantive interest in the interim final rule and good cause for the extension.

Therefore, the FAA has extended the comment period for Docket No. FAA-1999-5401 until May 5, 2003.

Issued in Washington, DC, January 31, 2003.
Louis C. Cusimano,
Acting Director, Flight Standards Service.

[FR Doc. 03-2679 Filed 1-31-03; 1:58 pm]

BILLING CODE 4910-13-P